DEPARTMENT OF HEALTH AND HUMAN SERVICES

Request for Information: HIV National Strategic Plan 2021-2025 Available for Public Comment

AGENCY: Office of the Secretary, Department of Health and Human Services.

ACTION: Notice.

Summary: The Department of Health and Human Services' (HHS) Office of Infectious Disease and HIV/AIDS Policy (OIDP) in the Office of the Assistant Secretary for Health (OASH) announces the draft HIV National Strategic Plan: A Roadmap to End the HIV Epidemic (2021-2025) (HIV Plan) available for public comment. The draft HIV Plan may be reviewed at www.hiv.gov.

DATES: All comments must be received by 5:00 p.m. ET on December 14, 2020 to be considered.

ADDRESSES: All comments must be submitted electronically to HIVPlanComments@hhs.gov to be considered.

FOR FURTHER INFORMATION CONTACT: Harold J. Phillips, OIDP, Harold.Phillips@hhs.gov, 202-725-8872.

SUPPLEMENTARY INFORMATION: The National HIV/AIDS Strategy, first released in 2010 and updated in 2015, changed the way that Americans talk about HIV and the ways that stakeholders prioritize and coordinate resources and deliver prevention and care services that support people with HIV or at risk for HIV. As a result, the nation's new HIV infections have declined from their peak in the mid-1980s—although remaining stable over the past decade—and people with HIV in care and treatment are living longer, healthier lives. In 2018 the estimated number of new HIV infections was 36,400. A robust prevention toolbox that includes pre-exposure prophylaxis (PrEP), post-exposure prophylaxis (PEP), and syringe services programs (SSPs) has lowered a person's risk of acquiring HIV. Research in recent years has proven that people with HIV who take antiretroviral therapy achieve and maintain an undetectable viral load, not protect their health but also have effectively no risk of transmitting HIV through sex.

This stability in the annual number of new infections, though, has further illuminated opportunities for focused efforts. According to the most recent available data, less than one-half (38.9%) of the U.S. population have ever been tested for HIV ¹ and an estimated 161,800 (14%) people with HIV are unaware of their status.² Only 63% of people diagnosed with HIV are virally suppressed.³ Approximately 80% of new HIV infections are due to people who do not know they have HIV or are not receiving regular care,⁴ and only 18% of the approximately 1.2 million people indicated for PrEP are receiving it.⁵ ⁶

¹ National HIV Testing Day—June 27, 2019. MMWR. 2019;68:561. doi: http://dx.doi.org/10.15585/mmwr.mm6825a1.

² Centers for Disease Control and Prevention. Estimated HIV incidence and prevalence in the United States, 2014-2018. HIV Surveillance Supplemental Report 2020;25(1). Accessed September 28, 2020. http://www.cdc.gov/hiv/library/reports/hiv-surveillance.html.

³ Harris NS, Johnson AS, Huang YLA, et al. Vital Signs: status of human immunodeficiency virus testing, viral suppression, and HIV preexposure prophylaxis—United States, 2013-2018. MMWR. 2019;68:1117-1123. doi: http://dx.doi.org/10.15585/mmwr.mm6848e1.

⁴ Li Z, Purcell DW, Sansom SL, et al. Vital Signs: HIV transmission along the continuum of care—United States, 2016. MMWR. 2019;68:267-272. Figure 1. doi: http://dx.doi.org/10.15585/mmwr.mm6811e1.

⁵ Harris NS, Johnson AS, Huang YLA, et al. Vital Signs: status of human immunodeficiency virus testing, viral suppression, and HIV preexposure prophylaxis—United States, 2013-2018. MMWR. 2019;68:1117-1123. doi: http://dx.doi.org/10.15585/mmwr.mm6848e1.

⁶ Centers for Disease Control and Prevention. HIV Surveillance Data Tables (early release): Core indicators for monitoring the Ending the HIV Epidemic initiative (preliminary data): HIV diagnoses and linkage to HIV medical care, 2019 (reported through December 2019); and preexposure prophylaxis (PrEP)—2018, updated. HIV Surveillance Data Tables 2020;1(2). Accessed October 16, 2020. https://www.cdc.gov/hiv/library/reports/surveillance-data-tables/index.html.

To respond and address the HIV public health epidemic, OASH through OIDP, in collaboration with a steering committee composed of a wide array of federal partners, has led and coordinated development of the HIV Plan. Opportunities for public input were provided, and public comments received were reviewed and analyzed, to help inform development of the components of the HIV Plan. The HIV Plan covers the entire country, provides a roadmap across the federal government, non-federal partners and stakeholders in all sectors of society, and encourages integration of several key components that are vital to our collective work.

The HIV Plan is the nation's third consecutive national HIV strategy. It sets forth bold targets for ending the HIV epidemic in the United States by 2030, including a 75% reduction in new HIV infections by 2025 and a 90% reduction by 2030. The HIV Plan articulates goals, objectives, and strategies to prevent new infections, treat people with HIV to improve health outcomes, reduce HIV-related disparities, and better integrate and coordinate the efforts of all partners to end the HIV epidemic in the United States. The HIV Plan also establishes indicators to measure progress, with quantitative targets for each indicator, and designates populations disproportionately impacted by and at risk for HIV as well as key areas of focus.

The order of goals, objectives, and strategies does not indicate any prioritization, and many are intertwined. The following are the HIV Plan's vision and four goals:

Vision: The United States will be a place where new HIV infections are prevented, every person knows their status, and every person with HIV has high-quality care and treatment and lives free from stigma and discrimination. This vision includes all people, regardless of age, sex, gender identity, sexual orientation, race, ethnicity, religion, disability, geographic location, or socioeconomic circumstance.

Goals

1. Prevent new HIV infections;

2. Increase knoweldge of HIV status;

3. Reduce HIV-related disparities and health inequities; and

4. Achieve integrated, coordinated efforts that adddress the HIV epidemic among all partners and stakeholders.

Information Needs

The draft HIV Plan may be reviewed at: www.hiv.gov.

OIDP seeks to obtain feedback from external stakeholders on the following:

1. Do the draft plan's goals, objectives, and strategies appropriately address the HIV epidemic?

2. Are there any critical gaps in the HIV Plan's goals, objectives, and strategies? If so, please specify the gaps.

3. Do any of the HIV Plan's goals, objectives and strategies cause concern? If so, please specify the goal, objective or strategy, and describe the concern regarding it.

Each commenter is limited to a maximum of seven pages.

Authority: 77 FR 15761 (March 16, 2012).

Dated: November 25, 2020.
B. Kaye Hayes,
Acting Director, Office of Infectious Disease and HIV/AIDS Policy.

[FR Doc. 2020-26586 Filed 12-1-20; 8:45 am]

BILLING CODE 4150-43-P